DEPARTMENT OF STATE

[Public Notice: 10729]

Advisory Committee On International Economic Policy: Notice of Open Meeting

The Advisory Committee on International Economic Policy (ACIEP) will meet from 1:00 until 4:00 p.m., on Thursday, May 9 in Washington DC at the State Department, 320 21st Street NW. The meeting will be hosted by the Assistant Secretary of State for Economic and Business Affairs, Manisha Singh, and Committee Chair Paul R. Charron. The ACIEP serves the U.S. government in a solely advisory capacity, and provides advice concerning topics in international economic policy. The discussion at the meeting will include topics such as women's economic empowerment, emerging technologies, data flows, and data privacy. The Sanctions Subcommittee as well as the Stakeholder Advisory Board might present updates.

This meeting is open to the public, though seating is limited. Entry to the building is controlled. To obtain pre-clearance for entry, members of the public planning to attend must, no later than April 25, provide their full name and professional affiliation (if any) to Melike Yetken by email: YetkenMA@state.gov. Requests for reasonable accommodation should also be made to Melike Yetken before April 25. Requests made after that date will be considered, but might not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (State-33) and Security Records (State-36). See https://www.state.gov/privacy/sorns/index.htm. Provision of this information is voluntary, but failure to provide accurate information may impede your ability to register for the event.

For additional information, contact Melike Ann Yetken, Bureau of Economic and Business Affairs, at (202) 647-1817, or YetkenMA@state.gov.

Melike A. Yetken,
Designated Federal Officer, U.S. Department of State.

[FR Doc. 2019-07026 Filed 4-9-19; 8:45 am]

BILLING CODE 4710-07-P